DEPARTMENT OF STATE

[Public Notice: 9759]

Certification Pursuant to Section 7045(A)(3)(B) of the Department of State, Foreign Operations, and Related Programs Appropriations Act, 2016

By virtue of the authority vested in me as Deputy Secretary of State by Department of State Delegation of Authority 245-1, and pursuant to section 7045(a)(3)(B) of the Department of State, Foreign Operations, and Related Programs Appropriations Act, 2016 (Div. K, Pub. L. 114-113), I hereby certify that the central government of Honduras is taking effective steps to:

• Establish an autonomous, publicly accountable entity to provide oversight of the Plan [of the Alliance for Prosperity in the Northern Triangle of Central America];

• Combat corruption, including investigating and prosecuting government officials credibly alleged to be corrupt;

• Implement reforms, policies, and programs to improve transparency and strengthen public institutions, including increasing the capacity and independence of the judiciary and the Office of the Attorney General;

• Establish and implement a policy that local communities, civil society organizations (including indigenous and other marginalized groups), and local governments are consulted in the design, and participate in the implementation and evaluation of, activities of the Plan that affect such communities, organizations, and governments;

• Counter the activities of criminal gangs, drug traffickers, and organized crime;

• Investigate and prosecute in the civilian justice system members of military and police forces who are credibly alleged to have violated human rights, and ensure that the military and police are cooperating in such cases;

• Cooperate with commissions against impunity, as appropriate, and with regional human rights entities;

• Support programs to reduce poverty, create jobs, and promote equitable economic growth in areas contributing to large numbers of migrants;

• Establish and implement a plan to create a professional, accountable civilian police force and curtail the role of the military in internal policing;

• Protect the right of political opposition parties, journalists, trade unionists, human rights defenders, and other civil society activists to operate without interference;

• Increase government revenues, including by implementing tax reforms and strengthening customs agencies; and

• Resolve commercial disputes, including the confiscation of real property, between United States entities and such government.

This certification shall be published in the Federal Register and, along with the accompanying Memorandum of Justification, shall be reported to Congress.

Dated: September 30, 2016.
Heather A. Higginbottom,
Deputy Secretary of State.

[FR Doc. 2016-24894 Filed 10-13-16; 8:45 am]

BILLING CODE 4710-29-P